DEPARTMENT OF HOMELAND SECURITY

Federal Emergency Management Agency

[Docket ID: FEMA-2010-0012]

Agency Information Collection Activities: Proposed Collection; Comment Request, 1660-0022; Community Rating System (CRS) Program—Application Worksheets and Commentary

AGENCY: Federal Emergency Management Agency, DHS.

ACTION: Notice; 60-day notice and request for comments; revision of a currently approved information collection; OMB No. 1660-0022; FEMA Form 086-0-23, Community Rating System Application Form and Manual; 086-0-23A, Community Rating System Annual Recertification.

SUMMARY: The Federal Emergency Management Agency, as part of its continuing effort to reduce paperwork and respondent burden, invites the general public and other Federal agencies to take this opportunity to comment on a proposed extension, without change, of a currently approved information collection. In accordance with the Paperwork Reduction Act of 1995, this Notice seeks comments concerning the application for the Community Rating System program. This program allows communities to become eligible for discounts on flood insurance when the communities undertake activities to mitigate damage resulting from floods. The application documents these activities and provides the Federal Emergency Management Agency with the information necessary to determine what discounts are appropriate.

DATES: Comments must be submitted on or before June 14, 2010.

ADDRESSES: To avoid duplicate submissions to the docket, please use only one of the following means to submit comments:

(1) Online. Submit comments at http://www.regulations.gov under Docket ID FEMA-2010-0012. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include Docket ID FEMA-2010-0012 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via a Notice link in the footer of http://www.regulations.gov.

FOR FURTHER INFORMATION CONTACT: Contact Bill Lesser, Program Specialist, in the Mitigation Directorate at the Federal Emergency Management Agency, (202) 646-2807 for additional information. You may contact the Office of Records Management for copies of the proposed collection of information at facsimile number (202) 646-3347 or e-mail address: FEMA-Information-Collections@dhs.gov.

SUPPLEMENTARY INFORMATION: The National Flood Insurance Reform Act (NFIRA) of 1994 (Pub. L. 103-325, section 541) requires that a community rating system be established. This ratings system is a voluntary program for communities and it would provide a method by which flood mitigation activities engaged in by these communities could be measured. The effect of this mitigation activity would reduce the exposure of the communities to damages resulting from flooding and in turn reducing the loss incurred as a result of this flooding. To encourage participation, discounts on flood insurance are offered within communities that successfully complete qualified mitigation actions, and the community ratings system provides the ability to measure these actions and to recertify the communities in successive years.

Collection of Information

Title: Community Rating System (CRS) Program—Application Worksheets and Commentary.

Type of Information Collection: Revision of a currently approved information collection.

OMB Number: 1660-0022.

Form Titles and Numbers: FEMA Form 086-0-23, Community Rating System Application Form and Manual; 086-0-23A, Community Rating System Annual Recertification.

Abstract: The CRS Application Worksheet and Commentary are used by communities that participate in the National Flood Insurance Program's (NFIP) Community Rating System (CRS) to document the activities that communities have undertaken to mitigate against future flood losses. The CRS application and activity worksheets provide a step-by-step process for communities to follow in their effort to achieve the maximum amount of discount on flood insurance premiums. CRS is a voluntary program where flood insurance costs are reduced in communities that implement practices, such as building codes and public education activities, that are considered to reduce risks of flooding and promote purchase of flood insurance.

Affected Public: State, local, or Tribal Government.

Estimated Total Annual Burden Hours: 8,450.

Estimated Annualized Burden Hours and Costs
Type of respondent | Form name/Form No. | Number of respondents | Number of responses per respondent | Total number of responses | Average burden per response (in hours) | Total annual burden (in hours) | Average hourly wage rate | Total annual respondent cost
State, local, or Tribal Government | Community Rating System Application Form and Manual, FEMA Form 086-0-23 | 150 | 1 | 150 | 31 | 4,650 | $48.83 | $227,060
State, local, or Tribal Government | Community Rating System Annual Recertification, FEMA Form 086-0-23A | 950 | 1 | 950 | 4 | 3,800 | 48.83 | 185,554
Total |  | 1,100 |  | 1,100 |  | 8,450 |  | 412,614

Estimated Cost: There are no estimated operational, maintenance, capital or start-up costs associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 31, 2010.
Larry Gray,
Director, Records Management Division, Mission Support Bureau, Federal Emergency Management Agency, Department of Homeland Security.

[FR Doc. 2010-8496 Filed 4-13-10; 8:45 am]

BILLING CODE 9110-11-P